DEPARTMENT OF ENERGY

Federal Energy Regulatory Commission

[Docket No. EC03-30-000, et al.]

Illinois Power Company, et al.; Electric Rate and Corporate Filings

March 7, 2003.

The following filings have been made with the Commission. The filings are listed in ascending order within each docket classification.

1. Illinois Power Company; Illinois Electric Transmission Company, LLC; Trans-Elect, Inc.

[Docket Nos. EC03-30-000 and ER03-284-000]

Take notice that on March 4, 2003, Illinois Power Company (Illinois Power), and Illinois Electric Transmission Company, LLC (IETC), Illinois Transco-Holdings, LP (ITH) and Trans-Elect, Inc. (Trans-Elect) (collectively Trans-Elect applicants) (collectively applicants) withdrew that portion of the joint application filed by applicants on December 16, 2002, in which Trans-Elect applicants requested authorization under section 205 of the Federal Power Act for certain rate methodologies and treatments for the provision of open access transmission service over the jurisdictional transmission facilities to be purchased from Illinois Power by IETC.

Applicants state that copies of this filing have been served on all affected state commissions and customers taking service under Illinois Power's open access transmission tariff.

Comment Date: March 25, 2003.

2. NSTAR Electric & Gas Corporation, et al. v. New England Power Pool

[Docket No. EL03-25-002]

Take notice that on March 3, 2003, the New England Power Pool (NEPOOL) tendered for filing with the Federal Energy Regulatory Commission (Commission) its report of compliance in response to the requirements of the Commission's January 31, 2003, order in NSTAR Electric & Gas Corporation, et al., 102 FERC ¶61,107 (2003).

NEPOOL states that copies of these materials were sent to the parties to that proceeding, to the NEPOOL participants, non-participant transmission customers and the New England state governors and regulatory commissions.

Comment Date: March 31, 2003.

3. Wolverine Power Supply Cooperative, Inc.

[Docket No. ES03-27-000]

Take notice that on February 28, 2003, Wolverine Power Supply Cooperative, Inc. (Wolverine) submitted an application pursuant to section 204 of the Federal Power Act seeking authorization to make short-term borrowings under a line of credit with the National Rural Cooperative Finance Corporation in an amount not to exceed $25 million.

Wolverine also requests a waiver from the Commission's competitive bidding and negotiated placement requirements at 18 CFR 34.2.

Comment Date: March 21, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-6006 Filed 3-12-03; 8:45 am]

BILLING CODE 6717-01-P